COMMITTEE FOR PURCHASE FROM PEOPLE WHO ARE BLIND OR SEVERELY DISABLED

Procurement List; Amendment

AGENCY: Committee for Purchase From People Who Are Blind or Severely Disabled.

ACTION: Amendment to the Procurement List.

SUMMARY: This action amends one (1) product addition to the Procurement List that is furnished by a nonprofit agency employing persons who are blind or have other severe disabilities.

DATES: Date added to and deleted from the Procurement List: April 28, 2019.

ADDRESSES: Committee for Purchase From People Who Are Blind or Severely Disabled, 355 E Street SW, Washington, DC 20024.

FOR FURTHER INFORMATION CONTACT: Michael R. Jurkowski, Telephone: (703) 785-6404, or email CMTEFedReg@AbilityOne.gov.

SUPPLEMENTARY INFORMATION:

Additions

On February 8, 2019 (84 FR 2823), the Committee for Purchase From People Who Are Blind or Severely Disabled, operating as the U.S. AbilityOne Commission (Commission) published notice of its intent to add the Airborne Tactical Assault Panel (A-TAP) to the Procurement List for 50% of the U.S. Army's A-TAP requirement. In accordance with 41 CFR 51-2.4 and 51-5.3, the Commission subsequently determined 50% of the U.S. Army's A-TAP requirement was suitable for addition and published a notice of product addition on March 29, 2019 (84 FR 11935). However, the March 29, 2019 notice inadvertently omitted that only 50% of the U.S. Army's ATAP requirement was suitable for addition. The Commission issued a correction to the 2019 Federal Register notice on February 7, 2023 (88 FR 7967).

Shortly following the Commission's issued correction, the U.S. Court of Federal Claims, by decision issued March 13, 2023, enjoined the Commission to update the status of Southeastern Kentucky Rehabilitation Services, Inc. (SEKRI) on the Procurement List to reflect that SEKRI is the mandatory source of supply for 100% of the requirement. SEKRI, Inc. v. U.S., 2023 WL 2473533 *19 (Fed.Cl. 2023). The Commission herein amends and updates the Procurement List.

Regulatory Flexibility Act Certification

I certify that the following action did not have a significant impact on a substantial number of small entities. The major factors considered for this certification were:

1. The action did not result in any additional reporting, recordkeeping or other compliance requirements for small entities other than the nonprofit agencies furnishing the products to the Government.

2. The action did result in authorizing nonprofit agencies to furnish the products to the Government.

3. There were no known regulatory alternatives which would have accomplished the objectives of the Javits-Wagner-O'Day Act (41 U.S.C. 8501-8506) in connection with the products added to the Procurement List.

End of Certification

Accordingly, the following is an update for the products listed below:

Product(s)

NSN(s)—Product Name(s): 8465-01-F05-2045—Airborne Tactical Assault Panel (A-TAP)

Designated Source of Supply: Southeastern Kentucky Rehabilitation Industries, Inc., Corbin, KY

Contracting Activity: DEPT OF THE ARMY, W6QK ACC-APG NATICK/Defense Logistics Agency

Mandatory For: 100% of the requirement for the Department of Defense

Michael R. Jurkowski,
Acting Director, Business Operations.

[FR Doc. 2023-09642 Filed 5-4-23; 8:45 am]

BILLING CODE 6353-01-P